POSTAL SERVICE

39 CFR Part 111

New Mailing Standards for Hazardous Materials Outer Packaging and Nonregulated Toxic Materials

AGENCY: Postal Service™.

ACTION: Proposed rule.

SUMMARY: The Postal Service is proposing to amend Publication 52, Hazardous, Restricted, and Perishable Mail (Pub 52) by requiring specific outer packaging strength standards when mailing hazardous materials or dangerous goods and remove quantity restrictions for nonregulated toxic materials. Additionally, the Postal Service proposes to allow mailers to use poly or padded bags as outer packaging for shipments containing lithium batteries installed in the equipment they operate if the shipment does not display hazardous text, markings or labels as permitted in sections 349 and 622.

DATES: Submit comments on or before January 16, 2024.

ADDRESSES: Mail or deliver written comments to the Director, Product Classification, U.S. Postal Service, 475 L'Enfant Plaza SW, Room 4446, Washington, DC 20260-5015. If sending comments by email, include the name and address of the commenter and send to PCFederalRegister@usps.gov, with a subject line of “New Mailing Standards for Hazardous Materials Outer Packaging and Nonregulated Toxic Materials.” Faxed comments will not be accepted.

You may inspect and photocopy all written comments, by appointment only, at USPS® Headquarters Library, 475 L'Enfant Plaza SW, 11th Floor North, Washington, DC 20260. These records are generally available for review Monday through Friday, 8 a.m. to 4 p.m., by calling 202-268-2906.

FOR FURTHER INFORMATION CONTACT: Dale Kennedy, (202) 268-6592, or Jennifer Cox, (202) 268-2108.

SUPPLEMENTARY INFORMATION: All submitted comments and attachments are part of the public record and subject to disclosure. Do not enclose any material in your comments that you consider to be confidential or inappropriate for public disclosure.

The Postal Service proposes to amend Publication 52, Hazardous, Restricted, and Perishable Mail (Pub 52), with the provisions set forth herein. While not codified in Title 39, Code of Federal Regulations (CFR), Publication 52 is a regulation of the Postal Service, and changes to it may be published in the Federal Register. 39 CFR 211.2(a)(2). Moreover, Publication 52 is incorporated by reference into Mailing Standards of the United States Postal Service, Domestic Mail Manual (DMM) section 601.8.1, which is incorporated by reference, in turn, into the Code of Federal Regulations. 39 CFR 111.1, 111.3. Publication 52 is publicly available, in a read-only format, via the Postal Explorer® website at https://pe.usps.com. In addition, links to Postal Explorer are provided on the landing page of USPS.com, the Postal Service's primary customer-facing website, and on Postal Pro, an online informational source available to postal customers.

Proposal

Except as otherwise specified, the Postal Service proposes to require mailers shipping hazardous materials (HAZMAT) or dangerous goods (DG) to utilize rigid outer packaging that meets minimum edge crush test requirements as part of its ongoing efforts to improve safety within the Postal Service network. The Postal Service is proposing these requirements to increase the capability of packages to withstand normal processing and handling from induction to delivery point while reducing potential HAZMAT or DG incidents.

Additionally, the Postal Service proposes to allow mailers to use padded or poly bags as outer packaging for shipments containing lithium batteries installed in the equipment they operate that do not display hazardous text, marks or labels as permitted in sections 349.221a6, 622.51f and 622.52g, but only when packed in an inner container that can withstand a 1.7-meter drop test. Currently, the use of padded and poly bags as outer packaging is permitted only when the mailpiece contains button cell batteries installed in the equipment they operate.

The Postal Service is cognizant that the existing regulations in Pub 52 pertaining to other nonregulated toxic materials (Pub 52, section 346.232) are more stringent than other transportation regulatory agencies and commercial carriers and is therefore proposing to align its regulations with the transportation industry. If the proposal is adopted, the Postal Service will amend Pub 52 to remove quantity restrictions for nonregulated liquid and solid toxic materials, for products such as pesticides, insecticides and herbicides. The Postal Service believes this proposal will provide mailers a clearer understanding of its rules when shipping nonregulated toxic materials and align its regulations with the Pipeline and Hazardous Materials Safety Administration (PHMSA).

The Postal Service proposes to adopt the following changes to Publication 52, Hazardous, Restricted, and Perishable Mail, incorporated by reference into Mailing Standards of the United States Postal Service, Domestic Mail Manual (DMM) section 601.8.1, which is further incorporated by reference in the Code of Federal Regulations. Publication 52 is also a regulation of the Postal Service, changes to which may be published in the Federal Register. Accordingly, for the reasons stated in the preamble, the Postal Service proposes to amend Publication 52 as follows:

Publication 52, Hazardous, Restricted and Perishable Mail

* * * * *

1 Introduction

13 Additional Information

[Add new section 131 to read as follows:]

131 Hazardous Materials Outer Packaging

Except as otherwise specified, rigid outer packaging must be used for shipments containing hazardous materials. Outer packaging, as defined in Appendix D, is the outer most enclosure that holds the primary receptacle, and if applicable, secondary packaging, absorbent and/or cushioning material.

When shipping hazardous materials, the following rigid outer packaging is required:

(a) Hazardous materials shipments weighing 20 pounds or less, the outer package must be 200 lb. burst test or 32-edge crush test package or equivalent, at minimum.

(b) Hazardous materials shipments weighing more than 20 pounds, outer packages must be 275 lb. burst test or 44-edge crush test or equivalent, at minimum.

Lithium batteries installed in the equipment they operate that are permitted to be mailed under section 349, are afforded adequate protection by that equipment, and do not display hazardous text, markings or labels as permitted in 349.221a6, 622.51f and 622.52g may utilize padded or poly bags as outer packaging, provided they are within a container that can withstand a 1.7-meter drop test before placing inside the padded or poly bag. See 349.221.a(3).

* * * * *

3 Hazardous Materials

* * * * *

34 Mailability by Hazard Class

* * * * *

346 Toxic Substances and Infectious Substances (Hazard Class 6)

* * * * *

346.232 Other Nonregulated Toxic Materials

[Revise paragraph to read as follows:]

Liquids and solids such as pesticides, insecticides, herbicides and irritating material (346.11e), that are not regulated as hazardous materials under 49 CFR 172.101 are mailable but must be packaged in rigid outer packaging (see 131) and be able to withstand normal transit and handling. Liquids must also follow 451.3a.

* * * * *

349 Miscellaneous Hazardous Materials (Hazard Class 9)

* * * * *

[Insert new 349.221 to read as follows:]

349.221 Lithium Batteries

a. General. The following applies to the mailability of all lithium batteries:

1. Each cell or battery must meet the requirements of each test in the UN Manual of Tests and Criteria, part III, and subsection 38.3 as referenced in 49 CFR 171.7.

2. Lithium battery outer packaging must be rigid (see 131), sealed and of adequate size.

3. The use of padded or poly bags as outer packaging is permitted only when:

a. Mailpieces contain lithium batteries properly installed in the equipment/product they intend to operate.

b. The batteries are afforded adequate protection by the equipment/product, and

c. The secondary container (e.g., original manufacturer packaging), containing the equipment or product prevents damage and accidental activation, can retain the product without puncture of the packaging under normal conditions of transport and can withstand a 1.7-meter drop test. Button cell batteries, meeting the classification criteria in 349.11d, installed in the device they operate are not required to be within a secondary container that can withstand a 1.7-meter drop test prior to utilizing a padded or poly bag as outer packaging.

d. The package containing batteries does not display hazardous materials text, marks.

4. All outer packages must have a complete delivery and return address.

5. Lithium battery marks are required on mailpieces containing 5 to 8 lithium cells installed in the equipment they operate.

a. The marks must be applied to the address side without being folded or applied in such a manner that parts of the mark appear on different sides of the mailpiece. See 325.1.

b. The mark must be a DOT-approved lithium battery mark, as specified in 49 CFR 173.183(c)(3)(i) and Exhibit 325.2a.

c. The mark must include a telephone number for those who need to obtain additional information.

d. Lithium metal cells or batteries must be marked with UN3090.

e. Lithium metal cells or batteries installed in or packed with the equipment they intend to operate must indicate UN3091.

f. Lithium-ion cells or batteries must be marked UN3480.

g. Lithium-ion cells or batteries installed in or packed with the equipment they intend to operate must indicate UN3481.

6. Lithium battery marks are not required on packages containing only lithium button cell batteries, no more than 4 lithium cells or 2 lithium batteries installed in the equipment they operate.

7. All used, damaged, or defective electronic devices with lithium cells or batteries contained in or packed with device (excluding electronic devices that are new in original packaging, and manufacturer-certified new or refurbished devices) must be marked with the text “Restricted Electronic Device” and “Surface Transportation Only” on the address side of the mailpiece.

* * * * *

[Renumber existing section 349.221 to 349.222]

349.222 Lithium Metal (Nonrechargeable) Cells and Batteries—Domestic

[Revise item a. as follows:]

a. General. The following restrictions apply to the mailability of all lithium metal (or lithium alloy) cells and batteries:

1. Each cell must contain no more than 1.0 gram (g) of lithium content per cell.

2. Each battery must contain no more than 2.0 g aggregate lithium content per battery.

* * * * *

[Renumber existing section 349.222 to 349.223]

349.223 Lithium-Ion (Rechargeable) Cells and Batteries—Domestic

[Revise item a. as follows:]

a. General. The following additional restrictions apply to the mailability of all secondary lithium-ion or lithium polymer cells and batteries:

1. The watt-hour rating must not exceed 20 Wh per cell.

2. The watt-hour rating must not exceed 100 Wh per battery.

3. Each battery must bear the “Watt-hour” or “Wh” marking on the battery to determine if it is within the limits defined in items 1 and 2.

* * * * *

62 Hazardous Materials: International Mail

621 General Requirements

* * * * *

[Insert new section 621.2 and renumber existing 621.2 through 621.4 as 621.3 through 621.5]

621.2 Outer Packaging Requirements

Except as otherwise specified, rigid outer packaging must be used for shipments containing dangerous goods following the instructions in 131.

* * * * *

Appendix C

USPS Packaging Instruction 9D

[Revise third bullet in the Required Packaging section to read as follows:]

Required Packaging

Lithium Metal and Lithium-Ion Batteries

Lithium batteries permitted to be mailed under section 349 that are installed in the device they operate, are afforded adequate protection by that equipment, and do not display hazardous text, markings or labels as permitted in 349.221a6, 622.51f and 622.52g may utilize padded and poly bags as outer packaging provided the device is within a secondary container that can withstand a 1.7-meter drop test. Button cell batteries, meeting the classification criteria in 349.11d, installed in the device they operate are not required to be within a secondary container that can withstand a 1.2-meter drop test prior to utilizing a padded or poly bag as outer packaging.

* * * * *

USPS Packaging Instruction 9E

[Insert new second bullet in the Required Packaging section to read as follows:]

Required Packaging

Lithium Metal and Lithium-Ion Batteries

Lithium batteries installed in the device they operate that are permitted to be mailed under section 622.5, may utilize padded and poly bags as outer packaging provided the device is within a secondary container that can withstand a 1.7-meter drop test. Button cell batteries, meeting the classification criteria in 349.11d, installed in the device they operate are not required to be within a secondary container that can withstand a 1.7-meter drop test prior to utilizing a padded or poly bag as outer packaging.

* * * * *

Appendix D

Hazardous Materials Definitions

* * * * *

[Revise definition of Rigid to read as follows:]

Rigid means unable to bend or be forced out of shape; not flexible. Rigid outer packaging is generally interpreted to mean a fiberboard (cardboard) box or outer packaging of equivalent strength, durability, and rigidity. See 131.

* * * * *

Colleen Hibbert-Kapler,
Attorney, Ethics and Legal Compliance.

[FR Doc. 2023-27643 Filed 12-14-23; 8:45 am]

BILLING CODE 7710-12-P